DEPARTMENT OF TRANSPORTATION

Federal Highway Administration

Notice of Final Federal Agency Actions on Proposed Highway in Pennsylvania

AGENCY: Federal Highway Administration (FHWA), DOT.

ACTION: Notice of limitation on claims for judicial review of actions by FHWA and other federal agencies.

SUMMARY: This notice announces actions taken by the FHWA and other Federal agencies that are final within the meaning of 23 U.S.C. 139(l)(1). The actions relate to a proposed highway project, SR 6247 from SR0247 to SR 1012 (Salem Road) Lackawanna County, Pennsylvania and those actions grant licenses, permits, and approvals for the project.

DATES: By this notice, the FHWA is advising the public of final agency actions subject to 23 U.S.C. 139(l)(1). A claim seeking judicial review of the Federal agency actions on the highway project will be barred unless the claim is filed on or before September 26, 2006. If the Federal law that authorizes judicial review of a claim provides a time period of less than 180 days for filing such claim, then that shorter time period still applies.

FOR FURTHER INFORMATION CONTACT: Karyn Vandervoort, Environmental Program Manager, Federal Highway Administration, 228 Walnut Street, Room 508, Harrisburg, PA 17101-1720, between 8 a.m. and 4 p.m., (717) 221-2276, karyn.vandervoort@fhwa.dot.gov or Stephen J. Shimko, P.E., District Executive, Pennsylvania Department of Transportation, Engineering District 4-0, 55 Keystone Industrial Park, Dunmore, PA 18512: telephone: (570) 963-4061.

SUPPLEMENTARY INFORMATION: Notice is hereby given that the FHWA have taken final agency actions by issuing licenses, permits, and approvals for the following highway project in the Commonwealth of Pennsylvania: Construction of a new 2-lane road providing access from State Route 0247 (S.R. 0247) in Jessup Borough to Salem Road (S.R. 1012) in Archbald Borough in Lackawanna County. The proposed roadway would begin on S.R. 0247 south of the S.R. 0247 interchange with the Robert P. Casey Highway (S.R. 0006), traverse the proposed Valley View Business Park property, cross the Robert P. Casey Highway (S.R. 0006) then utilize an existing Archbald Borough roadway within the PEI Power Park. The project will pass through abandoned mine land with second growth forest. The roadway will provide access to the Robert P. Casey Highway (S.R. 0006) supporting regional and local development. The actions by the Federal agencies, and the laws under which such actions were taken, are described in the Environmental Assessment (EA) for the project, approved on January 7, 2004, in the FHWA Finding of No Significant Impact (FONSI) issued on November 30, 2004, and in other documents in the FHWA administrative record. The EA, FONSI, and other documents in the FHWA administrative record file are available by contacting the FHWA or the Pennsylvania Department of Transportation at the addresses provided above. The FHWA EA and FONSI can be viewed at public libraries in the project area or at the PennDOT District 4-0 Office at 55 Keystone Industrial Park, Dunmore, PA. This notice applies to all Federal agency decisions as of the issuance date of this notice and all laws under which such actions were taken, including but not limited to:

1. National Environmental Policy Act (NEPA) [42 U.S.C. 4321-4351].

2. Federal-Aid Highway Act [23 U.S.C. 109].

3. Section 4(f) of the Department of Transportation Act of 1966 [49 U.S.C. 303]; Landscaping and Scenic Enhancement (Wildflowers), 23 U.S.C. 319.

4. Clean Air Act, 42 U.S.C. 7401-7671(q).

5. Endangered Species Act [16 U.S.C. 1531-1544 and Section 1536]; Marine Mammal Protection Act [16 U.S.C. 1361], Fish and Wildlife Coordination Act [16 U.S.C. 661-667(d)], Migratory Bird Treaty Act [16 U.S.C. 703-712].

6. Section 106 of the National Historic Preservation Act of 1966, as amended [16 U.S.C. 470(f) et seq.]; Archaeological and Historic Preservation Act [16 U.S.C. 469-469c].

7. Clean Water Act, 33 U.S.C. 1251-1377 (Section 404, Section 401, Section 319).

8. Executive Orders: E.O. 11990 Protection of Wetlands; E.O. 11988 Floodplain Management; E.O. 12892 Federal Actions to Address Environmental Justice in Minority Populations and Low Income Populations; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

James A. Cheatham,
Division Administrator, Harrisburg.

[FR Doc. 06-3070 Filed 3-29-06; 8:45 am]

BILLING CODE 4910-22-M